DEPARTMENT OF DEFENSE

Department of the Army, Corps of Engineers

Notice of Intent To Prepare an Environmental Impact Statement for the Micron Semiconductor Manufacturing Facility Project, Town of Clay, Onondaga County, New York

AGENCY: U.S. Army Corps of Engineers, Department of the Army, DoD.

ACTION: Notice of intent.

SUMMARY: The U.S. Army Corps of Engineers (USACE), Buffalo District, has received an application for a Department of the Army (DA) permit (USACE number LRB-2000-02198) from Micron New York Semiconductor Manufacturing LLC (Micron), a wholly owned subsidiary of Micron Technology, Inc., to construct a semiconductor manufacturing facility for leading-edge manufacturing of dynamic random-access memory (DRAM) chips. The USACE, as the lead federal agency under the National Environmental Policy Act (NEPA), has determined the proposed project may significantly affect the quality of the human environment and will prepare an environmental impact statement (EIS). The USACE action will be to issue, issue with modifications, or deny a DA permit for the proposed project. The EIS will assess the potential social, economic, and environmental impacts of the proposed project.

ADDRESSES: Written comments regarding the proposed EIS scope should be submitted to: U.S. Army Corps of Engineers, Buffalo District, Attn: Ms. Margaret Crawford, 7413 County House Road, New York 13021. Individuals who would like to provide comments electronically should submit comments by email to: celrb-micron.public.comments@usace.army.mil.

FOR FURTHER INFORMATION CONTACT: For information about this project or to be included on the mailing list for future updates and meeting announcements, contact Ms. Margaret Crawford at the USACE by telephone at (716) 879-6331, by email at celrb-micron.public.comments@usace.army.mil, or by mail at the mailing address provided above.

SUPPLEMENTARY INFORMATION: The USACE intends to prepare an EIS for the proposed semiconductor manufacturing facility project. The proposed project requires authorization from the USACE under Section 404 of the Clean Water Act (33 U.S.C. 1344) for the discharge of dredged or fill material into waters of the United States.

1. Proposed Action. Micron New York Semiconductor Manufacturing LLC (Micron), a wholly owned subsidiary of Micron Technology, Inc., is proposing to construct a semiconductor manufacturing facility for leading-edge manufacturing of dynamic random-access memory (DRAM) chips. Micron is proposing to construct the semiconductor manufacturing facility over a continuous 20-year period (the “Proposed Project”). The Proposed Project consists of (1) construction of the Micron Campus, which will include four individual memory fabrication units (fabs), ancillary support facilities, driveways, and parking; (2) construction of a childcare and health care center located at 9100 Caughdenoy Road, Brewerton, NY; (3) construction of a connection to the National Grid substation, adjacent to the Micron Campus, and (4) a rail spur on the west side of Caughdenoy Road adjacent to the proposed facility. Micron intends to start construction of the Micron Campus in 2025, with two fabs (Fabs 1 and 2) becoming operational by 2029. Two more fabs (Fabs 3 and 4) would be operational by 2041. Separately, Onondaga County plans to improve the water supply and wastewater infrastructure to support operations of the manufacturing plant. The National Grid utility company plans to upgrade the energy infrastructure to support the Proposed Project. The Proposed Project is anticipated to involve placement of fill into a total of approximately 226 acres of federally regulated wetlands on the proposed Micron Campus, 18 acres on the Rail Spur property west of the proposed campus, and 7,523 linear feet of federally regulated streams and ditches. The applicant proposes to develop a compensatory wetland mitigation plan to offset permanent losses of waters of the United States from the Proposed Project.

2. Location. Micron is proposing to acquire the approximately 1400-acre White Pine Commerce Park site, located at 5171 Route 31, in the Town of Clay, Onondaga County, New York 13041, from the Onondaga County Industrial Development Agency (OCIDA) at Latitude and Longitude: 43.190792, −76.157056.

3. Alternatives. The EIS will address an array of alternatives. Alternatives may include, but are not limited to, no action, alternative sites, and alternative facility designs. Mitigation measures could include, but are not limited to, avoidance and minimization, enhancement, restoration, or establishment of wetlands and other waters.

4. Scoping Process. The scoping period will continue for 30 days from the date of this Notice of Intent. During the scoping period, the USACE invites federal, state, and local agencies, Tribal Nations, other interested parties, and the general public to participate in the scoping process. The purpose of the scoping process is to provide information to the public, serve as a mechanism to solicit agency and public input on alternatives, identify significant issues to be analyzed in the EIS, and ensure full and open participation in scoping for the draft EIS. USACE anticipates that potential impacts to land use; socioeconomic conditions; environmental justice communities; historic and cultural resources; visual impacts; geology, soils, and topography; water resources; biological resources; solid waste; hazardous materials; health and safety; transportation; air quality; greenhouse gas emissions and climate change; noise; and utilities and infrastructure will be analyzed in the EIS. Scoping comments may be submitted by conventional mail or email. All comments must include the USACE number LRB-2000-02198. In order to be accepted, email comments must originate from the author's email account. All comments received will become part of the administrative record and are subject to public release under the Freedom of Information Act, including any personally identifiable information such as names, phone numbers, and addresses.

USACE is serving as the lead federal agency pursuant to 40 CFR 1501.7. The Department of Commerce National Institute of Standards and Technology (NIST), the Federal Highway Administration (FHWA), and the U.S. Environmental Protection Agency (EPA) agreed to participate as Cooperating Agencies pursuant to 40 CFR 1501.8. USACE is responsible for a decision under the CWA Section 404 permitting process and will rely on the EIS in support of that decision. NIST received an application for federal financial assistance under the Creating Helpful Incentives to Produce Semiconductors for America (CHIPS) Act for the Proposed Project. If NIST decides to provide financial assistance, the agency must conduct an environmental review under NEPA. Additionally, NIST has subject matter experts in the production of semiconductors who can provide technical assistance in the preparation of the EIS. FHWA agreed to participate due to its expertise on traffic analysis. EPA will conduct the review required by Section 309 of the Clean Air Act (CAA) and will also support the evaluation of, among other things, air quality impacts; impacts to water resources; and environmental justice concerns. Although USFWS is not a cooperating agency, it will participate in development of the EIS; prepare a Biological Opinion under ESA Section 7; and provide expertise when considering impacts to wetlands, floodplains, wildlife, and habitat. USACE is inviting the Tribal Nations to consult related to the Proposed Project.

Other environmental review and consultation requirements include consultation under Section 106 of the National Historic Preservation Act, consultation under Section 7 of the Endangered Species Act, and consultation under the Fish and Wildlife Coordination Act. The Proposed Project is anticipated to require a Clean Air Act Title V air permit, Certification of Water Quality under Section 401 of the CWA, and a State Pollutant Discharge Elimination System General Permit under Section 402 of the CWA. Further, a Notice of Proposed Construction or Alteration is expected to be filed with the Federal Aviation Administration.

5. Scoping Meetings. A public scoping meeting will be held on Tuesday March 19, 2024, 7 p.m. Eastern Time at the Town of Clay—Town Hall Board Room; 4401 Route 31; Clay, NY 13041. Agencies, organizations, and members of the general public are invited to present comments or suggestions with regard to the range of actions, alternatives, and potential impacts to be considered in the EIS.

6. Availability of the Draft EIS. USACE will use input provided by government agencies, private organizations, and the public in the preparation of the Draft EIS. The USACE will work with the Cooperating Agencies to develop a schedule for preparation of the Draft EIS. That schedule will be published when it is available. The Draft EIS will be filed with the US Environmental Protection Agency (EPA) and will be available for public comment 45 days from the date the EPA publishes its Federal Register notice.

Approved by:
Joseph M. Savage,
Regional Programs Director.

[FR Doc. 2024-04709 Filed 3-1-24; 4:15 pm]

BILLING CODE P